NUCLEAR REGULATORY COMMISSION

Documents Containing Reporting or Recordkeeping Requirements: Office of Management and Budget (OMB) Review

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. chapter 35).

1. Type of submission, new, revision, or extension: Revision.

2. The title of the information collection: 10 CFR Part 50, “Risk-Informed Categorization and Treatment of Structures, Systems, and Components,” proposed rule.

3. The form number if applicable: Not applicable.

4. How often the collection is required: Information is required to be collected when categorization is performed and when replacement components are designed, procured, installed, and tested by the licensee. Reporting of conditions is required when discovered. A one-time submittal is required for implementation, for those licensees (or applicants) who choose to follow the requirements in section 50.69 in lieu of other requirements.

5. Who will be required or asked to report: Power reactor licensees and applicants who voluntarily adopt the provisions of section 50.69.

6. An estimate of the number of annual responses: Part 50 would result in 10 responses (6 additional reports and 4 additional records); Part 21 would result in a reduction of 2 responses; and section 50.73 reporting would result in a reduction of 4 responses.

The estimated number of annual respondents: The total number of respondents under part 50 that could potentially be subject to these requirements is 104 reactor licensees and some unknown, but likely small number for applicants. However, the actual number is expected to be considerably smaller. For purposes of this notice, the number assumed is 4 licensees.

8. An estimate of the total number of hours needed annually to complete the requirement or request: 4,126 hours (an increase in 1,630 hours for reporting; and an increase of 2,496 hours for recordkeeping, or 1,032 hours per licensee). This estimate includes an annualized one-time burden of 5,600 hours for implementation of the rule through procedures and training of personnel, NRC approval of implementation, and conducting and documenting categorization reviews. The burden depends upon factors such as current development of the probabilistic risk assessment and categorization procedures, existing plant procedures, and the scope and implementation schedule for revised rule requirements.

9. An indication of whether section 3507(d), Pub. L. 104-13 applies: Applicable.

10. Abstract: The NRC is revising its requirements to permit power reactor licensees and applicants for licenses to implement an alternative regulatory framework with respect to “special treatment,” that is, those requirements that provide increased assurance (beyond normal industrial practices) that SSCs perform their design basis functions. Under this framework, licensees or applicants, using a risk-informed process for categorizing SSCs according to their safety-significance, can remove SSCs of low safety-significance from the scope of certain identified special treatment requirements.

Submit, by June 11, 2003, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the supporting statement may be viewed free of charge at the NRC Public Document Room, One White Flint North, 11555 Rockville Pike, Room O-1 F21, Rockville, MD 20852. The proposed rule indicated in “The title of the information collection” is or has been published in the Federal Register within several days of this Federal Register Notice. The OMB clearance package and rule are available at the NRC worldwide Web site: http://www.nrc.gov/public-involve/doc-comment/omb/index.html for 60 days after the signature date of this notice and are also available at the rule forum site, http://ruleforum.llnl.gov.

Comments and questions should be directed to the OMB reviewer listed below by June 11, 2003:

Bryon Allen, Office of Information and Regulatory Affairs (3150-0011, -0035, and -0104), NEOB-10202, Office of Management and Budget, Washington, DC 20503.

Comments can also be submitted by telephone at (202) 395-3087.

The NRC Clearance Officer is Brenda Jo. Shelton, 301-415-7233.

Dated at Rockville, Maryland, this 24th day of April, 2003.
For the Nuclear Regulatory Commission.
Brenda Jo. Shelton,
NRC Clearance Officer, Office of the Chief Information Officer.

[FR Doc. 03-11698 Filed 5-9-03; 8:45 am]

BILLING CODE 7590-01-P